DEPARTMENT OF COMMERCE

National Oceanic and Atmospheric Administration

RIN 0648-XE574

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow eight commercial fishing vessels to fish outside of the limited access sea scallop regulations in support of bycatch reduction research by using a bi-directional extended link apron.

Regulations under the Magnuson-Stevens Fishery Conservation and Management Act require publication of this notification to provide interested parties the opportunity to comment on applications for proposed Exempted Fishing Permits.

DATES: Comments must be received on or before May 5, 2016.

ADDRESSES: You may submit written comments by any of the following methods:

• Email: nmfs.gar.efp@noaa.gov. Include in the subject line “DA16-026 CFF Eco Friendly Dredge EFP.”

• Mail: John K. Bullard, Regional Administrator, NMFS, Greater Atlantic Regional Fisheries Office, 55 Great Republic Drive, Gloucester, MA 01930. Mark the outside of the envelope ” DA16-026 CFF Eco Friendly Dredge EFP.”

FOR FURTHER INFORMATION CONTACT: Shannah Jaburek, Fisheries Management Specialist, 978-282-8456.

SUPPLEMENTARY INFORMATION: Coonamesset Farm Foundation (CFF) has submitted a proposal titled “Development of Ecosystem Friendly Scallop Dredge Bags: Tools for Long-Term Sustainability,” that has been favorably reviewed and is pending final approval by NOAA's Grants Management Division under the 2016 Atlantic Sea Scallop Research Set-Aside (RSA) Program.

CFF submitted a complete application for an Exempted Fishing Permit (EFP) on March 10, 2016. The project would continue testing gear that reduces bycatch focusing on a bi-directional extended link apron which increases inter-ring spacing to improve escapement of small scallops and reduction in finfish bycatch.

CFF is requesting exemptions that would allow eight commercial fishing vessels be exempt from the Atlantic sea scallop days-at-sea (DAS) allocations at 50 CFR 648.53(b); crew size restrictions at § 648.51(c); Atlantic sea scallop observer program requirements at § 648.11(g); access area program requirements at § 648.60(a)(4), and rotational closed area exemptions for Closed Area I at § 648.58(a); Closed Area II at § 648.58(b), and Nantucket Lightship at § 648.58(c). The EFP would exempt participating vessels from possession limits and minimum size requirements specified in 50 CFR part 648, subsections B and D through O, for sampling purposes only. The EFP would also exempt one vessel from the scallop dredge gear restrictions for minimum ring and mesh size and use of a liner at § 648.51(b) in order to use a survey dredge set to the same specifications the NMFS uses for its yearly abundance survey. Any fishing activity conducted outside the scope of the exempted fishing activity would be prohibited.

Eight vessels would conduct scallop dredging in June 2016-May 2017, on a total of seven 7-day trips, for a total of 49 DAS. Each trip would complete approximately 50 tows for an overall total of 350 tows for the project. Trips would take place in the open areas of Southern New England and Georges Bank as well as in the Mid-Atlantic scallop access area and Georges Bank access areas that are currently closed. Four trips would be conducted in the Mid-Atlantic and southern New England, and three trips would be conducted on Georges Bank. Trips would be centralized around areas with high yellowtail and winter flounder bycatch and in areas with a high abundance of harvestable size scallops mixed with pre-recruit scallops.

Six trips would fish two 15-foot (4.57-m) Turtle Deflector Dredges, towed for a maximum duration of 30 minutes with a tow speed range of 4.8-5.1 knots. One dredge would be rigged with a standard linked bag while the other would be rigged with a bi-directional extended link apron. Standard linking is defined as a single link between ring spaces, and the extended link is defined as two links linked together between rings. Both dredges would use 4-inch (10.16-cm) rings and a 10-inch (25.40-cm) twine top. One trip would utilize the NMFS survey dredge on one side, which has specifications of 8-feet (2.44 m) wide with 2-inch (5.08-cm) rings and a 3.5-inch (8.89-cm) twine top with a 1.5-inch (3.81-cm) liner inserted inside. The project would use a combination of both the experimental and control dredge on the other side. This would allow the project to compare the absolute selectivity curves between the control and experimental dredges.

For all tows, the sea scallop catch would be counted into baskets and weighed. One basket from each dredge would be randomly selected and the scallops would be measured in 5-mm increments to determine size selectivity. Finfish catch would be sorted by species and then counted, weighed and measured in 1-mm increments. Depending on the volume of scallops and finfish captured, the catch would be subsampled as necessary. No catch would be retained for longer than needed to conduct sampling and no catch would be landed for sale.

Project Catch Estimates in Pounds
Species | Number | Weight (pounds) | Weight (kilograms)
Scallops | 250,000 | 100,000 | 45,359
Yellowtail Flounder | 2,000 | 2,000 | 907
Winter Flounder | 300 | 500 | 227
Windowpane Flounder | 5,000 | 3,500 | 1,588
Monkfish | 2,500 | 5,500 | 2,495
Summer Flounder | 100 | 150 | 68
Barndoor Skate | 500 | 500 | 227
Northeast Skate Complex | 75,000 | 100,000 | 45,359

CFF needs these exemptions to allow them to conduct experimental dredge towing without being charged DAS, and to deploy gear in closed access areas where concentrations of primary bycatch species are sufficiently high to provide statistically robust results. Exemption from the dredge gear requirements would allow the project to tow the NMFS survey dredge, which does not conform with regulation. Participating vessels need crew size waivers to accommodate science personnel, and possession waivers will enable researchers to conduct finfish sampling activities. The project would be exempt from the sea scallop observer program requirements because activities conducted on the trip are not consistent with normal fishing operations.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 15, 2016.
Emily H. Menashes,
Acting Director, Office of Sustainable Fisheries, National Marine Fisheries Service.

[FR Doc. 2016-09168 Filed 4-19-16; 8:45 am]

BILLING CODE 3510-22-P